DEPARTMENT OF COMMERCE

National Oceanic and Atmospheric Administration

RIN 0648-XW43

South Atlantic Fishery Management Council; Public Meetings

AGENCY: National Marine Fisheries Service (NMFS), National Oceanic and Atmospheric Administration (NOAA), Commerce.

ACTION: Notice of public meetings.

SUMMARY: The Eight Regional Fishery Management Councils will convene a meeting of representatives of their respective Scientific and Statistical Committee (SSCs) at the Charleston Marriott, Charleston, SC.

DATES: The meetings will be held October 19-21, 2010.

ADDRESSES: The meetings will be held at the Charleston Marriott, 170 Lockwood Boulevard, Charleston SC 29403; telephone: (843) 968-3569.

FOR FURTHER INFORMATION CONTACT: Kim Iverson or John Carmichael at the South Atlantic Fishery Management Council, 4055 Faber Place Drive, Suite 201, North Charleston, SC 29405; telephone: (843) 571-4366.

SUPPLEMENTARY INFORMATION: The Magnuson Stevens Fishery Conservation and Management Act (MSA) requires that each Council maintain and utilize its SSCs to assist in the development, collection, evaluation, and peer review of information relevant to the development and amendment of fishery management plans (FMPs). In addition, the MSA mandates that each SSC shall provide its Council ongoing scientific advice for fishery management decisions, including recommendations for acceptable biological catch (ABC), preventing overfishing, maximum sustainable yield, and achieving rebuilding targets, and reports on stock status and health, bycatch, habitat status, social and economic impacts of management measures, and sustainability of fishing practices.

On January 16, 2009, the National Marine Fisheries Service (NMFS) issued final revised guidelines for National Standard 1 (NS1) of the MSA on how to comply with the new annual catch limit (ACL) requirements for ending overfishing of federal fisheries. The law requires that ACLs be implemented by 2011. The primary objective of this workshop is to discuss best practices and approaches for setting scientifically based catch limits and to discuss regional peer review programs.

Tuesday, October 19, 2010; 9 a.m. - 5 p.m.

SSC progress reports on ABC control rule implementation, review of regional peer review programs.

Wednesday, October 20, 2010; 8 a.m. - 5 p.m.

Role of SSCs in peer review programs; acceptance of peer review results; developing fishing level recommendations: using control rules and incorporating uncertainty.

Thursday, October 21, 2010; 8 a.m. - 5 p.m.

Developing fishing level recommendations: options when infeasible, ensuring consistency and objectivity; After ABC: role of SSC in ACL and AM development, role of SSC in social and economic issues.

The agenda is subject to change, and the latest version will be posted at http://www.fisherycouncils.org.

Although non-emergency issues not contained in this agenda may come before this group for discussion, those issues may not be the subject of formal action during these meetings. Action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to the Council office (see ADDRESSES) at least 7 working days prior to the meeting.

Dated: May 7, 2010.
Tracey L. Thompson,
Acting Director, Office of Sustainable Fisheries, National Marine Fisheries Service.

[FR Doc. 2010-11334 Filed 5-12-10; 8:45 am]

BILLING CODE 3510-22-S